DEPARTMENT OF COMMERCE

National Oceanic and Atmospheric Administration

RIN: 0648-XP10

New England Fishery Management Council; Public Meetings

AGENCY: National Marine Fisheries Service (NMFS), National Oceanic and Atmospheric Administration (NOAA), Commerce.

ACTION: Notice of public meetings.

SUMMARY: The New England Fishery Management Council's (Council) Groundfish Advisory Panel and Recreational Advisory Panel will hold meetings to consider actions affecting New England fisheries in the exclusive economic zone (EEZ).

DATES: The meetings will be held in May 2009. For specific dates and times, see SUPPLEMENTARY INFORMATION.

ADDRESSES: The meetings will be held at the Sheraton Colonial, One Audubon Road, Wakefield, MA 01880; telephone: (781) 245-9300. For specific locations, see SUPPLEMENTARY INFORMATION.

Council address: New England Fishery Management Council, 50 Water Street, Mill #2, Newburyport, MA 01950.

FOR FURTHER INFORMATION CONTACT: Paul J. Howard, Executive Director, New England Fishery Management Council; telephone: (978 ) 465-0492.

SUPPLEMENTARY INFORMATION: The panel's schedule and agenda for the following two meetings are as follows:

Council Meetings: Locations, Schedules, and Agendas

1. Tuesday, May 26, 2009, beginning at 9 a.m.

The Groundfish Advisory Panel (GAP) will meet to review Draft Amendment 16 to the Northeast Multispecies Fishery Management Plan (FMP) and the accompanying Draft Environmental Impact Statement (DEIS). Amendment 16 adjusts management measures as necessary to continue rebuilding groundfish stocks. It includes measures to implement Annual Catch Limits and Accountability Measures, revised effort controls for the commercial fishery, changes to sector management policies, measures for the recreational fishery, and other changes to the management program. The GAP will review the amendment and will develop recommendations for which measures the New England Fishery Management Council should choose, focusing on, but not limited to, measures that affect the commercial groundfish industry. GAP recommendations will be provided to the Groundfish Oversight Committee on June 17, 2009, and will be reported to the full Council at its meeting June 23 25, 2009.

2. Wednesday, May 27, 2009, beginning at 9 a.m.

The Recreational Advisory Panel (RAP) will meet to review Draft Amendment 16 to the Northeast Multispecies Fishery Management Plan (FMP) and the accompanying Draft Environmental Impact Statement (DEIS). Amendment 16 adjusts management measures as necessary to continue rebuilding groundfish stocks. It includes measures to implement Annual Catch Limits and Accountability Measures, revised effort controls for the commercial fishery, changes to sector management policies, measures for the recreational fishery, and other changes to the management program. The RAP will review the amendment and will develop recommendations for which measures the New England Fishery Management Council should choose, focusing on, but not limited to, measures that affect recreational fishermen (including party/charter vessel operators). GAP recommendations will be provided to the Groundfish Oversight Committee on June 17, 2009, and will be reported to the full Council at its meeting June 23 25, 2009.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: May 5, 2009.
William D. Chappell,
Acting Director, Office of Sustainable Fisheries, National Marine Fisheries Service.

[FR Doc. E9-10838 Filed 5-8-09; 8:45 am]

BILLING CODE 3510-22-S